FEDERAL COMMUNICATIONS COMMISSION

47 CFR Part 90

[WT Docket No. 01-146; RM-9966; FCC 03-35]

Applications and Licensing of Low Power Operations in the Private Land Mobile Radio 450-470 MHz Band; Corrections

AGENCY: Federal Communications Commission.

ACTION: Final rule; correction.

SUMMARY: The Federal Communications Commission published a document in the Federal Register on April 21, 2003, (68 FR 19444), a document revising Commission rules inadvertently listed frequencies in § 90.35(b)(3) as 462/467.23152, also it changes the limit of the maximum antenna height from 23 meters (75 feet) in § 90.267(d)(2) and finally it corrects the listing of frequency pairs in 90.267(d)(4). This document revises these sections.

DATES: Effective September 25, 2003.

FOR FURTHER INFORMATION CONTACT: Brian Marenco, Electronics Engineer, bmarenco@fcc.gov, or Genevieve Ross, Esquire, gaugusti@fcc.gov, Policy and Rules Branch, Public Safety and Private Wireless Division, Wireless Telecommunications Bureau, (202) 418-0680.

SUPPLEMENTARY INFORMATION: This is a summary of the FCC's Erratum, FCC 03-35, released on March 11, 2003. The full text of this document is available for inspection and copying during normal business hours in the FCC Reference Center, 445 12th Street, SW., Washington, DC 20554. The complete text may be purchased from the FCC's copy contractor, Qualex International, 445 12th Street, SW., Room CY-B402, Washington, DC 20554. The full text may also be downloaded at: http://www.fcc.gov. Alternative formats are available to persons with disabilities by contacting Brian Millin at (202) 418-7426 or TTY (202) 418-7365 or at bmillin@fcc.gov.

In the FR Doc. 03-9667 published in the Federal Register on April 21, 2003, (68 FR 19444), § 90.35(b)(3) make the following correction.

1. On page 19456 in the table please correct the frequency “462.23152” to read as “462.23125” and

2. On page 19459 in the table please correct the frequency “467.23152” to read as “467.23125”.

3. On page 19462 in § 90.267 in paragraph (d)(2) of column three please correct the maximum antenna height from “23 meters (75 feet)” for Group B channels to “7 meters (20 ft).”

4. On page 19462 in § 90.267 in paragraph (d)(3) of the table in column one please correct the frequency pair “462/467.23152” to read as “462/467.23125”.

Federal Communications Commission.
Marlene H. Dortch,
Secretary.

[FR Doc. 03-23795 Filed 9-24-03; 8:45 am]

BILLING CODE 6712-01-P